DEPARTMENT OF ENERGY

Federal Energy Regulatory Commission

[Docket No. CP01-379-000]

Dominion Transmission, Inc.; Notice of Application

June 8, 2001.

Take notice that on May 30, 2001, Dominion Transmission, Inc (DTI), 445 West Main Street, Clarksburg, West Virginia 26301, filed an application for authorization to abandon facilities pursuant to Section 7(b) of the Natural Gas Act (NGA) and Part 157 Commission's Rules and Regulations. The purpose of the application is to obtain authorization for the retroactive abandonment of 13 storage wells and related facilities located in DTI's Oakford, Bridgeport, Fink-Kennedy-Lost Creek, Racket Newberne, and South Bend Storage Pools, all as more fully set forth in the amendment which is open to the public for inspection. DTI states that the abandonment costs were not passed through to DTI's customers. DTI also requests that intermediate decision procedures be omitted, pursuant to Rules 801 and 802 of the Commission's Rules of Practice and Procedure. This application may be viewed on the web at: www.rimsweb1.ferc.fed.us/rims.q?rp2~intro (call 202-208-2222 for assistance).

Any questions regarding the application should be directed to Sean R. Sleigh, Certificates Manager, Dominion Transmission, Inc., 445 West Main Street, Clarksburg, WV 26301, phone number (304) 627-3462.

There are two to become involved in the Commission's review of this project. First, any person wishing to obtain legal status by becoming a party to the proceedings for this project should, on or before June 29, 2001, file with the Federal Energy Regulator Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Interventions, comments, and protests may be filed electronically via the Internet in lieu of paper. See, 18 CFR 385.2001(a)(1)(iii) and the instructions on the Commission's web site at: www.ferc.gov/documents/makeanelectronicfiling/doorbell.htm.

If the Commission decides to set the application for a formal hearing before an Administrative Law Judge, the Commission will issue another notice describing that process. At the end of the Commission's review process, a final Commission order approving or denying a certificate will be issued.

David P. Boergers,
Secretary.

[FR Doc. 01-14997 Filed 6-13-01; 8:45 am]

BILLING CODE 6717-01-M